DEPARTMENT OF JUSTICE

Antitrust Division

Notice Pursuant to the National Cooperative Research and Production Act of 1993; Open Platform for NVF Project, Inc.

Notice is hereby given that, on October 17, 2014, pursuant to Section 6(a) of the National Cooperative Research and Production Act of 1993, 15 U.S.C. 4301 et seq. (“the Act”), Open Platform for NVF Project, Inc. (“Open Platform for NVF Project”) has filed written notifications simultaneously with the Attorney General and the Federal Trade Commission disclosing (1) the identities of the parties to the venture and (2) the nature and objectives of the venture. The notifications were filed for the purpose of invoking the Act's provisions limiting the recovery of antitrust plaintiffs to actual damages under specified circumstances.

Pursuant to Section 6(b) of the Act, the identities of the parties to the venture are: 6Wind SA, Montigny-le-Bretonneux, FRANCE; Alcatel-Lucent, Murray Hill, NJ; ARM Limited, Cambridge, UNITED KINGDOM; AT&T, Dallas, TX; Broadcom Corporation, Irvine, CA; Brocade Communications, San Jose, CA; Cable Television Laboratories, Inc., Louisville, CO; Cavium, Inc., San Jose, CA; CenturyLink, Monroe, LA; China Mobile Communication Co., Ltd. Research Institute, Beijing, PEOPLE'S REPUBLIC OF CHINA; Ciena Corporation, San Jose, CA; Cisco Systems, Inc., San Jose, CA; Citrix, Santa Clara, CA; ClearPath Networks, El Segundo, CA; Contextream, Inc., Mountain View, CA; Coriant GmbH, Munich, GERMANY; Cyan, Inc., Petaluma, CA; Dell USA, LP, Round Rock, TX; Dorado Software, Inc., El Dorado Hills, CA; Ericsson AB, Kista, SWEDEN; Hewlett-Packard Co., Palo Alto, CA; Huawei Technologies Co., Ltd., Shenzhen, PEOPLE'S REPUBLIC OF CHINA; International Business Machines Corporation, New York, NY; Intel Corporation, Santa Clara, CA; Ixia, Calabasas, CA; Juniper Networks, Sunnyvale, CA; Metaswitch Networks, Ltd., Enfield, UNITED KINGDOM; Mirantis, Inc., Mountain View, CA; NEC Corporation, Tokyo, JAPAN; Nokia Networks, Espoo, FINLAND; NTT DOCOMO, Inc., Tokyo, JAPAN; Ooredoo Group, Doha, QATAR; Orange S.A., Paris, FRANCE; Overture Networks, Inc., Morrisville, NC; Red Hat, Inc., Raleigh, NC; Sandvine Incorporated ULC, Waterloo, Ontario, CANADA; Sprint Corporation, Overland Park, KS; Telecom Italia S.p.a., Torino, ITALY; Vodafone Group PLC, Newbury, UNITED KINGDOM; and Wind River Systems, Alameda, CA.

The general area of Open Platform for NVF Project's planned activity is to drive the evolution of Network Function Virtualization (“NFV”) by (a) developing an integrated and tested open software platform (including interfaces to hardware) capable of providing NVF functionality (the “Platform”); (b) contributing changes to and influencing upstream projects leveraging the Platform; (c) building new open source components within the Platform where needed; (d) leveraging open implementations to drive an open standards and open-source-based ecosystem for NFV solutions; (e) supporting and maintaining the strategic framework of the Platform through the technologies made available by the organization to make the Platform a success; (f) promoting the Platform worldwide as the preferred NFV reference platform; (g) coordinating the promotion of the Platform among members and non-members; and (h) undertaking such other activities as may from time to time be appropriate to further the purposes and achieve the goals set forth above.

Patricia A. Brink,
Director of Civil Enforcement, Antitrust Division.

[FR Doc. 2014-26942 Filed 11-13-14; 8:45 am]

BILLING CODE P